DEPARTMENT OF TRANSPORTATION

Federal Aviation Administration

Notice of Intent To Rule on Application (04-04-C-00-GUC) To Impose and To Use a Passenger Facility Charge (PFC) at the Gunnison-Crested Buttle Regional Airport, Submitted by the County of Gunnison, CO

AGENCY: Federal Aviation Administration (FAA), DOT.

ACTION: Notice of intent to rule on application.

SUMMARY: The FAA proposes to rule and invites public comment on the application to use a PFC at the Gunnison-Crested Butte Regional Airport under the provisions of 49 U.S.C. 40117 and part 158 of the Federal Aviation Regulations (14 CFR 158).

DATES: Comments must be received on or before April 26, 2004.

ADDRESSES: Comments on this application may be mailed or delivered in triplicate to the FAA at the following address: Craig A. Sparks, Manager; Denver Airports District Office, DEN-ADO; Federal Aviation Administration; 26805 E. 68th Avenue, Suite 224; Denver, CO 80249-6361.

In addition, one copy of any comments submitted to the FAA must be mailed or delivered to Mr. John DeVore, Chief Executive Officer, Gunnison County, at the following address: Gunnison-Crested Butte Regional Airport, 711 West Rio Grande, Gunnison Colorado 81230.

Air Carriers and foreign air carriers may submit copies of written comments previously provided to the Gunnison-Crested Butte Regional Airport, under § 158.23 of part 158.

FOR FURTHER INFORMATION CONTACT: Mr. Chris Schaffer, (303) 342-1258; Denver Airports District Office, DEN-ADO; Federal Aviation Administration, 26805 E. 68th Avenue, Suite 224; Denver, CO 80249-6361. The application may be reviewed in person at this same location.

SUPPLEMENTARY INFORMATION: The FAA proposes to rule and invites public comment on the application (04-04-C-00-GUC) to use a PFC at the Gunnison-Crested Butte Regional Airport, under the provisions of 49 U.S.C. 40117 and part 158 of the Federal Aviation Regulations (14 CFR part 158).

On March 17, 2004, the FAA determined that the application to impose a PFC submitted by the County of Gunnison, Gunnison, Colorado, was substantially complete within the requirements of § 158.25 of part 158. The FAA will approve or disapprove the application, in whole or in part, no later than June 17, 2004.

The following is a brief overview of the application.

Level of the proposed PFC: $4.50.

Proposed charge effective date: July 1, 2004.

Proposed charge expiration date: October 1, 2013.

Total requested for use approval: $2,278,137.00.

Brief description of proposed projects: Runway rehabilitation and shift, Gold Basin Road relocation, taxiway rehabilitation, construction of an aircraft rescue and fire fighting/snow removal equipment storage building, acquire snow removal equipment broom, terminal area study/terminal design, security enhancement.

Class or classes of air carriers which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue, SW., Suite 315, Renton, WA 98055-4056.

In addition, any person may, upon request, inspect the application, notice and other documents germane to the application in person at the Gunnison-Crested Butte Regional Airport.

Issued in Renton, Washington on March 17, 2004.
David A. Field,
Manager, Planning, Programming and Capacity Branch, Northwest Mountain Regionn.

[FR Doc. 04-6753 Filed 3-25-04; 8:45 am]

BILLING CODE 4910-13-M